DEPARTMENT OF HOMELAND SECURITY

Federal Emergency Management Agency

44 CFR Part 67

[Docket ID FEMA-2010-0003; Internal Agency Docket No. FEMA-B-1169]

Proposed Flood Elevation Determinations

Correction

In proposed rule document 2010-31549 appearing on pages 78664-78666 in the issue of December 16, 2010, make the following correction:

§ 67.4 [Corrected]

On page 78665, in the fifth row from the bottom, immediately beneath the sentence “Maps are available for inspection at the Meeker County Courthouse, 325 Sibley Avenue North, Litchfield, MN 55355.”, the heading which was inadvertently omitted from the table, is added to read “Carroll County, Missouri, and Incorporated Areas”.

[FR Doc. C1-2010-31549 Filed 9-30-11; 8:45 am]

BILLING CODE 1505-01-P